DEPARTMENT OF ENERGY

Federal Energy Regulatory Commission

[Docket No. EC03-107-000, et al.]

Northern Electric Power Co. L.P., et al.; Electric Rate and Corporate Filings

July 16, 2003.

The following filings have been made with the Commission. The filings are listed in ascending order within each docket classification.

1. Northern Electric Power Co., L.P., Adirondack Hydro-Fourth Branch LLC, NYSD Limited Partnership, Sissonville Limited Partnership and Warrensburg Hydro Power Limited Partnership

[Docket No. EC03-107-000]

Take notice that on July 11, 2003, Black Hills Generation, Inc. (Black Hills Generation), on behalf of certain of its subsidiaries and affiliates, together with Hamptons Power LLC (Hamptons), as sellers (collectively, Sellers), and BPIF LLC and Boralex New York Inc. (collectively, Buyers), tendered for filing with the Federal Energy Regulatory Commission (Commission), an application pursuant to section 203 of the Federal Power Act requesting authorization from the Federal Energy Regulatory Commission for Sellers to transfer to Buyers their interests in Northern Electric Power Co., L.P., Adirondack Hydro-Fourth Branch LLC, NYSD Limited Partnership, Sissonville Limited Partnership, and Warrensburg Hydro Power Limited Partnership.

Comment Date: August 1, 2003.

2. Calpine Newark, LLC

[Docket No. EG03-82-000]

Take notice that on July 14, 2003, Calpine Newark, LLC (Calpine Newark), c/o Calpine Corporation Eastern Region Office, The Pilot House, 2nd Floor, Lewis Wharf, Boston, MA 02110, filed with the Federal Energy Regulatory Commission (Commission), an application for determination of exempt wholesale generator status pursuant to part 365 of the Commission's regulations.

Calpine Newark states that it is a Delaware limited liability company and a wholly owned subsidiary of Calpine Cogeneration Corporation. Calpine Newark further states that it owns a 52 MW cogeneration facility located in Newark, New Jersey and sells the output of the facility at wholesale.

Newark states that copies of the application were served upon the Securities and Exchange Commission, New Jersey Board of Public Utilities, Colorado Public Utilities Commission, Kansas Corporation Commission, Michigan Public Service Commission, Minnesota Public Utilities Commission, New Mexico Public Regulation Commission, North Dakota Public Service Commission, Oklahoma Corporation Commission, South Dakota Public Utilities Commission, Texas Public Utility Commission, Wisconsin Public Service Commission, and Wyoming Public Service Commission.

Comment Date: August 6, 2003.

3. Idaho Power Company

[Docket Nos. ER03-487-003 and ER03-488-003]

Take notice that on July 11, 2003, Idaho Power Company submitted a filing in compliance with the Commission's March 31, 2003 Order, 102 FERC ¶ 61,351 in Docket Nos. ER03-487-002 and ER03-488-002.Comment Date: August 1, 2003.

4. Sierra Pacific Industries

[Docket No. ER03-860-002]

Take notice that on July 11, 2003, Sierra Pacific Industries (SPI), filed with the Federal Energy Regulatory Commission a second errata to its May 21 application for approval of its initial tariff (FERC Electric Tariff Original Volume No. 1), and for blanket approval for market-based rates pursuant to part 35 of the Commission's regulations. SPI requests a shortened notice period for this errata. SPI also states that the purpose of the second errata is to reflect the creation of a subsidiary, Sierra Pacific Energy, LLC, (SPE) that will undertake power marketing pursuant to the authority requested in this application.

SPE states that it seeks blanket market-based rate authority as well as the waiver of those Commission rules generally granted to power marketers. SPI also states that it is a California corporation.

Comment Date: July 25, 2003.

5. Tri-State Power, LLC

[Docket No. ER03-1056-000]

Take notice that on July 10, 2003, Tri-State Power, LLC tendered for filing a Notice of Cancellation of its power sales contracts in accordance with 18 CFR 35.15” and the Commission's Order Authorizing Disposition of Jurisdictional Facilities issued June 12, 2003.

Comment Date: July 31, 2003.

6. Gulf Power Company

[Docket No. ER03-1059-000]

Take notice that on July 11, 2003, Gulf Power Company, filed a Notice of Cancellation of the portions of the Interconnection Agreement dated August 1, 1985 between Alabama Electric Cooperative, Inc. and Gulf Power Company (Gulf Power Company's Rate Schedule FERC No. 82) that pertain to the supply of emergency service. Gulf Power Company states that this cancellation was made pursuant to a bilateral amendment to the Interconnection Agreement.

Comment Date: August 1, 2003.

7. Carolina Power & Light Company

[Docket No. ER03-1060-000]

Take notice that on July 11, 2003, Carolina Power & Light Company (CP&L) tendered for filing a Notice of Termination of a Facility Interconnection and Operating Agreement (IOA) between CP&L and Dominion Person, Inc. (Dominion). CP&L states that termination of the IOA has been mutually agreed to by CP&L and Dominion.

Comment Date: August 1, 2003.

8. PJM Interconnection, L.L.C.

[Docket No. ER03-1061-000]

Take notice that on July 11, 2003, PJM Interconnection, L.L.C. (PJM), submitted for filing three interim interconnection service agreements (Interim ISAs) between PJM and Conectiv Delmarva Generation, Inc., Armstrong Energy Limited Partnership, L.L.L.P., and Handsome Lake Energy L.L.C. and three notices of cancellation of certain Interim ISAs that have been superseded.

PJM requests a waiver of the Commission's 60-day notice requirement to permit the effective dates agreed to by the parties to the agreements. PJM states that copies of this filing were served upon the parties to the agreements and the state regulatory commissions within the PJM region.

Comment Date: August 1, 2003.

9. Citadel Energy Products LLC

[Docket No. ER03-1062-000]

Take notice that on July 11, 2003, Citadel Energy Products LLC (CEP) filed with the Federal Energy Regulatory Commission (Commission) an amendment to the Western Systems Power Pool (WSPP) Agreement. CEP states that this amendment revises the WSPP Agreement to list CEP as a member of the WSPP. CEP requests that the Commission allow the amendment to become effective July 11, 2003.

CEP states that a copy of this filing has been served upon Michael Small, General Counsel to the Western Systems Power Pool; Steve Norris, Arizona Public Service Company; Ricky Bittle, Chair of the WSPP Executive Committee; and Bobby J. Campo, Chair of the WSPP Operating Committee.

Comment Date: August 1, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-18773 Filed 7-22-03; 8:45 am]

BILLING CODE 6717-01-P